DEPARTMENT OF HEALTH AND HUMAN SERVICES

Office of the Secretary

[Document Identifier HHS-OS-0990-New 60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, OS seeks comments from the public regarding the burden estimate, below. The OS also welcomes comments on any other aspect of the ICR.

DATES: Comments on the ICR must be received on or before December 29, 2014.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS0990-New 60D for reference.

Information Collection Request Title: Evaluation of the National Training on Trauma-Informed Care (TIC).

Abstract: The HHS OWH is requesting OMB approval to conduct a new, one time outcome evaluation of the National Training Initiative on Trauma-Informed Care (TIC) for Community-Based Providers from Diverse Service Systems training curriculum. Policymakers and providers in many service sectors recognize the central role of trauma in causing or complicating physical and behavioral health conditions and the critical need for trauma-informed care (TIC) systems. The proposed evaluation will capture both knowledge gained and implementation impact achieved as a result of the TIC training and TA. Analyses and findings will be used to further refine the TIC curriculum and training approach, and can help inform OWH and HHS in future policymaking efforts. Information collected will also help researchers and practitioners better understand the impact of adopting a trauma-informed approach on and the quality of care provided by community-based providers.

Likely Respondents:

Site Visits

Site visits are designed to capture both the knowledge gained by training participants and the implementation impact achieved in their organizations as a result of the OWH TIC training and technical assistance. Interviewees will be drawn from two general categories, Leadership (includes staff in roles such as Director of Agency, CEO, and/or Executive Director) and Line/Other Frontline Staff (to include clinicians, program director/manager, direct program/service staff, and other frontline staff). While these agency/organization representatives will ideally have participated in the training, staff turnover or unavailability may result in the inclusion of leadership or line staff who did not participate in the training.

Online Survey

The goal of the online survey is to assess the impact of the training on participants' skills acquired in, knowledge about, and values and beliefs surrounding trauma-informed care. All participants (leadership and line/other frontline staff) who have been trained will constitute the online survey target population.

Total Estimated Annualized Burden—Hours
Form name | Number of respondents | Number of responses per respondent | Average burden per response (in hours) | Total burden hours
Online Survey | 300 | 1 | 25/60 | 125
Leadership | 125 | 1 | 25/60 | 52
Line/Other Frontline Staff | 175 | 1 | 25/60 | 73
Site Visits | 144 | 1 | 40/60 | 96
Leadership | 72 | 1 | 40/60 | 48
Line/Other Frontline Staff | 72 | 1 | 40/60 | 48
Total |  |  |  | 221

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2014-25567 Filed 10-27-14; 8:45 am]

BILLING CODE 4150-33-P